FEDERAL TRADE COMMISSION

Public Roundtable on Consumer Aspects of Hague Convention on Jurisdiction and Foreign Judgments

AGENCY: Federal Trade Commission.

ACTION: Notice Announcing Public Roundtable.

SUMMARY: The Federal Trade Commission (the “FTC”), in consultation with other government agencies, will hold a roundtable discussion on the consumer aspects of the Proposed Hague Convention on Jurisdiction and Foreign Judgments being negotiated by the Hague Conference on Private International Law. The latest draft of the Convention can be found at http://www.hcch.net/e/workprog/jdgm.html.

DATES: The roundtable will be held on Wednesday, December 19, 2001, and will begin at 9:15 a.m.

ADDRESSES: The roundtable will be held at the Federal Trade Commission, Room 432, 600 Pennsylvania Avenue, NW., Washington, DC. Please contact Maneesha Mithal, Bureau of Consumer Protection, Federal Trade Commission, phone: (202)326-2771, facsimile: (202)326-3392, E-mail: mmithal@ftc.gov (preferably by E-mail) if you plan to attend.

FOR FURTHER INFORMATION CONTACT: Maneesha Mithal, Bureau of Consumer Protection, Federal Trade Commission, phone: (202)326-2771, facsimile: (202)326-3392, E-mail: mmithal@ftc.gov.

SUPPLEMENTARY INFORMATION: Since 1992, the U.S. government has been negotiating an International Jurisdiction and Foreign Judgments Convention through the Hague Conference on Private International Law (the Convention). The State Department is leading the negotiations, assisted by staff of the Department of Justice, the Department of Commerce, the FTC and other agencies.

The Convention would establish international rules on jurisdiction and recognition and enforcement of foreign judgments. In June 2001, the Hague Conference on Private International Law convened what was to be the first session of a two-part conference to finalize the Convention. But because many difficult issues remained unresolved, at the conclusion of the June conference, Hague Conference delegations were unable to decide how to take the negotiations forward. A follow-up meeting has been tentatively scheduled for early 2002 to decide whether to continue the full project, scale it back in some way, or suspend it.

The draft Convention text resulting from the June 2001 negotiations raises many difficult issues, particularly in the area of e-commerce for business-to-consumer (B2C) and business-to-business (B2B) transactions, where stakeholders disagree on appropriate jurisdiction rules.¹ Several suggestions have been made for scaling back the current text in order to achieve consensus on the Convention, including limiting the Convention to enforcement of judgments arising from physical torts and B2B contracts containing choice-of-forum clauses. The U.S. delegation would like to explore with interested stakeholders the possibility of narrowing the Convention to areas where there seems to be consensus.

¹ The latest draft of the Convention can be found at http://www.hcch.net/e/workprog/jdgm.html.

The FTC is hosting this roundtable as a forum for all interested stakeholders to provide input to U.S. government officials on three specific issues raised by the draft Convention that are particularly relevant to consumer interests: business-to-consumer contracts, informational torts, and physical torts.

Officials from the Department of State, Department of Commerce, and Library of Congress will also be participating in the meeting. Each session of the roundtable will be moderated by government representatives. All attendees are free to participate in the discussion; no particular panelists will be chosen beforehand. An agenda for the roundtable and questions for discussion of these topics are listed below.

9:15: Introductory Remarks

9:30-11:30: Topic 1: Contracts

With respect to contracts, should the Convention be limited to B2B contracts containing choice-of-forum clauses? Why or why not?

If so, how should the term business be defined? What are the concerns of including, for example, non-profit associations and libraries within the definition of business?

If the Convention is limited to B2B contracts containing choice-of-forum clauses, should all such clauses be upheld or should there be exceptions for clauses that are procured as a result of fraud, duress, or unconscionability? Should there be exceptions based on reasonableness or public policy? Why or why not?

A concern has been raised that, even if limited to business-to-business contracts, the Convention could be revised and/or reinterpreted in the future to include consumer contracts also. How can this concern be addressed?

If the Convention were limited to B2B choice-of-forum clauses, U.S. consumers would not be able to get their judgments enforced abroad under the Convention. Are there other international venues where a Convention or other vehicle for enforcement of consumer judgments could be considered? What else can the U.S. do to address this problem?

Should the Convention address all B2B contracts, including those that do not contain choice-of-forum clauses? Why or why not?

Some have suggested that consensus is possible on the issue of jurisdiction for consumer contracts that do not contain choice-of-forum clauses. Should the Convention address consumer contracts without choice-of-forum clauses? What are the advantages and disadvantages of this approach?

11:45-12:30 pm: Topic 2: Physical Torts

Should physical torts (i.e., product liability) be included within the scope of the Convention? If so, how can physical torts be defined?

What are the advantages of inclusion? Disadvantages?

The June 2001 draft of the Convention contains some provisions on damages. If physical torts are included in the Convention, are stakeholders comfortable with the approach to damages outlined in the June 2001 draft of the Convention? Why or why not?

If physical torts are included in the Convention, should the U.S. be willing to give up general doing business jurisdiction in international cases involving physical torts? What impact would this have on U.S. litigation?

12:30-1:30 pm: Lunch

1:30-3:30 pm: Topic 3: Informational Torts (Intellectual Property, Speech Torts)

Should informational torts (e.g., defamation, copyright, trademark, patent infringement) be included within the scope of the Convention? Why or why not?

How can we define informational torts, as opposed to physical torts, for purposes of an international Convention?

Should the Convention distinguish between informational torts involving consumers and businesses? If so, how could such a distinction be made?

Should the Convention distinguish between torts that raise First Amendment issues and other informational torts? If so, how could such a distinction be made?

3:30-5:00 pm: Other Issues/Open Discussion

Should the Convention address lawsuits where the defendant is sued in his or her home forum? Why or why not?

A proposal has been made to negotiate a multi-track Convention, under which a comprehensive Convention would be negotiated, as well as a narrower Convention, and countries could decide which Convention to sign on to. What are your views with respect to this approach?

Do attendees have questions for members of the U.S. delegation?

By direction of the Commission.

Donald S. Clark,
Secretary.

[FR Doc. 01-30730 Filed 12-11-01; 8:45 am]

BILLING CODE 6750-01-M